DEPARTMENT OF EDUCATION

34 CFR Chapter II

Final Waiver and Extension of the Project Periods for the Education Research and Special Education Research Grant Programs

AGENCY: Institute of Education Sciences (IES), Department of Education.

ACTION: Final waiver and extension of project periods.

SUMMARY: The Secretary waives the requirements in the Education Department General Administrative Regulations that generally prohibit project periods exceeding five years and project period extensions involving the obligation of additional Federal funds. The waiver and extension enable projects under Assistance Listing Numbers (ALN) 84.305A, 84.305B, 84.305C, 84.305R, 84.324A, 84.324B, and 84.324R to receive funding for an additional period, not to exceed 1 year.

DATES: The waiver and extension of the project periods are effective April 22, 2022.

FOR FURTHER INFORMATION CONTACT: Allen Ruby, U.S. Department of Education, 550 12th Street SW, Room 4146, Washington, DC 20202. Telephone: (202) 245-8145. Email: Allen.Ruby@ed.gov.

If you are deaf, hard of hearing, or have a speech disability and wish to access telecommunications relay services, please dial 7-1-1.

SUPPLEMENTARY INFORMATION:

Background

Under the Education Research Grants Program (ALN 84.305A), the Education Research and Development Center Program (ALN 84.305C), Research Grants focused on Systematic Replication (ALN 84.305R), the Special Education Research Grants Program (ALN 84.324A), and Research Grants Focused on Systematic Replication in Special Education (ALN 84.324R), IES supports research activities to improve the quality of U.S. education and thereby increase student academic achievement, advance teaching and learning for students with disabilities from birth through postsecondary education, reduce the achievement gap between high-performing and low-performing students, and increase access to and completion of postsecondary education. Under the Research Training Programs in the Education Sciences (ALN 84.305B) and the Research Training Programs in Special Education (ALN 84.324B), IES supports training programs to prepare individuals to conduct rigorous and relevant education research to advance knowledge in the field and address issues important to education policymakers and practitioners.

Ongoing IES-funded projects under the above seven IES grant programs have been forced to put their research or training on hold for up to two years and may be required to remain on hold for additional time, due to the disruptions caused by COVID-19. During this period, such projects have not received their annual continuation funding from their original grant awards. Once these projects restart their research or training activities, the prohibitions against project periods exceeding five years and project period extensions involving the obligation of additional Federal funds, would result in the projects receiving multiple years of continuation funding within one year.

The waiver and extension enables these projects to receive their continuation funding over one additional period, not to exceed 1 year. By spreading out their continuation funding over an additional year, IES allows these grantees to properly budget their activities for the remaining years of the project, including an additional year 6.

Final Waivers and Extensions: The Department believes it is in the best interest of the public to extend project periods for one year and allow continuation funding to be provided during the additional year. Correspondingly, the Secretary waives the requirements in 34 CFR 75.250, which prohibit project periods exceeding five years. Any activities carried out under these continuation awards must be consistent with the scope and objectives of the grantees' applications as approved in the relevant grant competition. The requirements for continuation awards are set forth in 34 CFR 75.253.

Exemption From Proposed Rulemaking

Under section 191 of the Education Sciences Reform Act, 20 U.S.C. 9581, IES is not subject to section 437(d) of the General Education Provisions Act, 20 U.S.C. 1232(d), and is therefore not required to offer interested parties the opportunity to comment on matters relating to grants.

Regulatory Flexibility Act Certification

Because notice-and-comment rulemaking is not necessary for this action, the Regulatory Flexibility Act (96 Pub. L. 354, 5 U.S.C. 601-612) does not apply.

Paperwork Reduction Act of 1995

This final waiver and extension of the project period does not contain any information collection requirements.

Intergovernmental Review

These competitions are not subject to Executive Order 12372 and the regulations in 34 CFR part 79.

Accessible Format: On request to the program contact person listed under FURTHER INFORMATION CONTACT, individuals with disabilities can obtain this document in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Mark Schneider,
Director, Institute of Education Sciences.

[FR Doc. 2022-08557 Filed 4-21-22; 8:45 am]

BILLING CODE 4000-01-P